DEPARTMENT OF COMMERCE

National Oceanic and Atmospheric Administration

[I.D. 100802F]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of its Florida/Alabama, Mississippi/Louisiana, and Texas Habitat Protection Advisory Panels (APs) from October 30, 2002 through November 1, 2002.

DATES: The Joint Habitat Protection APs will convene at 1 p.m. on Wednesday, October 30, 2002 and will conclude by 3 p.m. on Friday, November 1, 2002.

ADDRESSES: The meeting will be held at the Hilton Tampa Airport Westshore Hotel, 2225 Lois Avenue, Tampa, FL; telephone: (813) 877-6688.

Council address: Gulf of Mexico Fishery Management Council, 3018 U.S. Highway 301 North, Suite 1000, Tampa, FL 33619.

FOR FURTHER INFORMATION CONTACT: Dr. Richard Leard, Senior Fishery Biologist, Gulf of Mexico Fishery Management Council, 3018 U.S. Highway 301 North, Suite 1000, Tampa, FL 33619; telephone: 813-228-2815.

SUPPLEMENTARY INFORMATION: The Habitat Protection APs will convene to review the Council's Intermediate Draft of the Environmental Impact Statement (EIS) for the Generic Essential Fish Habitat (EFH) Amendment. The APs will also tentatively discuss methylmercury in marine fish and the possible impacts of explosive removal of oil and gas structures on marine fish populations.

The Habitat Protection APs are made up of representatives from the recreational and commercial fishing groups, conservation organizations, academia, and state and federal resource agencies. The principal role of the APs is to assist the Council in attempting to maintain optimum conditions within the habitat and ecosystems supporting the marine resources of the Gulf of Mexico. The Habitat Protection APs call to the Council's attention proposed projects being developed and other activities which may adversely impact the Gulf marine fisheries and their supporting ecosystems. The APs may also provide advice to the Council on its policies and procedures for addressing environmental issues and review habitat related documents as requested.

Although non-emergency issues not contained in the agendas may come before the APs for discussion, in accordance with the Magnuson-Stevens Fishery Conservation and Management Act (Magnuson Act), those issues may not be the subject of formal action during these meetings. Action will be restricted to those issues specifically identified in this notice and any issues arising after publication of this notice that require emergency action under section 305 (c) of the Magnuson Act, provided the public has been notified of the Council's intent to take final action to address the emergency.

Copies of the agendas of these meetings can be obtained by calling the Council office at 813-228-2815 (toll-free 888-833-1844).

Special Accommodations

This meeting is physically accessible to people with disabilities. Requests for sign language interpretation or other auxiliary aids should be directed to Anne Alford at the Council (see ADDRESSES) by October 23, 2002.

Dated: October 10, 2002.
Matteo J. Milazzo,
Acting Director, Office of Sustainable Fisheries, National Marine Fisheries Service.

[FR Doc. 02-26323 Filed 10-15-02; 8:45 am]

BILLING CODE 3510-22-S